DEPARTMENT OF DEFENSE

Department of the Army, Corps of Engineers

Intent To Prepare a Draft Environmental Impact Statement (DEIS) for Packery Channel-North Padre Island Storm Damage Reduction and Environmental Restoration Project, Corpus Christi, Texas, as Cited in the Water Resources Development Act of 1999, Section 556

AGENCY: U.S. Army Corps of Engineers, DoD.

ACTION: Notice of intent.

SUMMARY: The proposed action to be addressed in the DEIS is to evaluate the environmental acceptability of the project design. The project is located along the south-central Texas Coast on the southern portion of Mustang Island. It will provide storm damage reduction and environmental restoration by creating an opening between the Gulf of Mexico and Corpus Christi Bay, and placing excavated material in front of the Padre Island Seawall. The project channel will extend from the Gulf of Mexico through a jettied entrance and a channel through Mustang Island, east and adjacent to John F. Kennedy Causeway, therein to the existing Packery Channel, joining the main channel of the Gulf Intracoastal Waterway in the vicinity of mile 553.

FOR FURTHER INFORMATION CONTACT: Questions about the proposed action and DEIS can be answered by: Mr. Carl Anderson, (409) 766-3914, Project Manager, Project Management Branch, or Mr. John C. Baker, (409) 766-3037, Environmental Lead, Environment Section, Planning and Environmental Branch, P.O. Box 1229, Galveston, Texas 77553-1229.

SUPPLEMENTARY INFORMATION: 1. The study process began with the Water Resources Development Act of 1999, Section 556, providing contingent authorization to construct the North Padre Island Storm Damage Reduction and Environmental Restoration Project, Texas, if the Secretary of the Army determined that the locally preferred plan (LPP) was technically sound and environmentally acceptable.

2. A “No Action” alternative will be evaluated and presented for comparison purposes in evaluating the various construction alternatives.

3. Scoping: The scoping process will involve Federal, State, and local agencies, and other interested persons and organizations. A series of scoping workshops will be conducted to discuss various issues associated with the channel improvements and placement of dredged material. Separate Scoping Notices will be issued for the various workshops. Issues to be considered in this process include beneficial uses of dredged material, changes in bay salinity and circulation, water and sediment quality, erosion along the channel, and threatened and endangered species impacts.

Any person or organization wishing to provide information on issues or concerns should contact the Corps of Engineers at the above address.

4. Coordination: Further coordination with environmental agencies will be conducted under the Fish and Wildlife Coordination Act, Endangered Species Act, Clean Water Act, National Historic Preservation Act, Magnuson-Stevens Fishery Conservation and Management Act (Essential Fish Habitat), and the Coastal Zone Management Act (Texas Coastal Management Program).

5. DEIS Preparation: It is estimated that the DEIS will be available to the public for review and comment in November 2001.

Luz D. Ortiz,
Army Federal Register Liaison Officer.

[FR Doc. 01-11466 Filed 5-7-01; 8:45 am]

BILLING CODE 3710-52-M